DEPARTMENT OF TRANSPORTATION

Federal Aviation Administration

Public Notice for a Change in Use of Aeronautical Property at Houlton International Airport, Houlton, Maine

AGENCY: Federal Aviation Administration (FAA), DOT.

ACTION: Request for Public Comments.

SUMMARY: The FAA is requesting public comment on the Town of Houlton, Maine's request to change a portion (36,450 s.f.) of Airport property from aeronautical use to non-aeronautical use. The property is located on Industrial Drive adjacent to Houlton International Corporation. The property will be used to expand Houlton international Corporation's facility. The property was acquired from the United States Government under Surplus Property Deed dated July 14, 1947.

The disposition of proceeds from the disposal of airport property will be in accordance with FAA's Policy and Procedures Concerning the Use of Airport Revenue, published in the Federal Register on February 16, 1999.

Section 125 of The Wendell H. Ford Aviation Investment and Reform Act for the 21St Century (AIR 21) requires the FM to provide an opportunity for public notice and comment to the “waiver” or “modification” of a sponsor's Federal obligation to use certain airport property for aeronautical purposes.

DATES: Comments must be received on or before January 10, 2011.

ADDRESSES: Documents are available for review by appointment by contacting Mr. Douglas Hazlett, Town Manager, Telephone 207-532-7111 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: The following is a legal description of the property located in the Town of Houlton, County of Aroostook, State of Maine as shown on a land survey prepared by Swallow Associates entitled “Survey of Land for Shiretown Development Corp. Being Land at Houlton International Airport, Houlton, Maine” Said parcel is more particularly described as follows: Commencing at the southwesterly corner of the land conveyed to the Shiretown Development Corporation by the Town of Houlton in a deed dated October 22, 2004, and recorded in Book 4057, Page 286 in the Southern Aroostook Registry of Deeds; thence northerly on the west line of said Shiretown Development Corporation parcel on a course bearing North nine degrees fifty-three minutes forty-three seconds East (N 09 53′ 43″ E) for a distance of six hundred and zero-hundredths (600.00) feet to a ½″ pin found at the northwest corner of said Shiretown Development Corporation parcel; thence westerly on an extension of the north line of said Shiretown Development Corporation parcel on a course bearing North eighty degrees six minutes seventeen seconds West (N 80 06′ 17″ W) for a distance of sixty and ninety-hundredths (60.90) feet to a point; thence southerly on a course bearing South nine degrees fifty-three minutes forty-three seconds East (S 09 53′ 43″ E) for a distance of six hundred and zero hundredths (600.00) feet to a point; thence easterly on a course bearing South eighty degrees six minutes seventeen seconds East (S 80 06′ 17″ E) for a distance of sixty and ninety hundredths (60.90) feet to the point of beginning.

The basis of bearings for this description is magnetic from compass observation of February 4, 2008.

The above described parcel contains 36,450 square feet.

Issued in Burlington, Massachusetts, on November 19, 2010.
Bill Watson,
Acting Manager, Airports Division, New England Region.

[FR Doc. 2010-30619 Filed 12-8-10; 8:45 am]

BILLING CODE 4910-13-M